ENVIRONMENTAL PROTECTION AGENCY

40 CFR Part 180

[EPA-HQ-OPP-2014-0804; FRL-9937-02]

Hexythiazox; Pesticide Tolerances; Technical Correction

AGENCY: Environmental Protection Agency (EPA).

ACTION: Final rule; technical correction.

SUMMARY: EPA issued a final rule in the Federal Register of August 14, 2015, concerning the establishment of tolerances with regional registrations for residues of hexythiazox in or on wheat. This document corrects a technical error, specifically, the omission of regions in the commodity definitions.

DATES: This final rule correction is effective December 2, 2015.

ADDRESSES: The docket for this action, identified by docket identification (ID) number EPA-HQ-OPP-2014-0804 is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Susan Lewis, Registration Division (7505P), Office of Pesticide Programs, Environmental Protection Agency, 1200 Pennsylvania Ave. NW., Washington, DC 20460-0001; telephone number: (703) 305-7090; email address: RDFRNotices@epa.gov.

SUPPLEMENTARY INFORMATION:

I. Does this action apply to me?

The Agency included in the August 14, 2015 final rule a list of those who may be potentially affected by this action.

II. What does this technical correction do?

EPA issued a final rule in the Federal Register of August 14, 2015 (80 FR 48753) (FRL-9931-30) that established tolerances with regional registrations for residues of hexythiazox in or on wheat. EPA inadvertently limited the tolerances to Region 11 in the table in 180.448(c) of the regulatory text, when in fact Regions 9-12 are covered by the data supporting the tolerances and the regional registrations. This technical correction revises the table in 180.488(c) to include all the regions intended for the tolerances.

The preamble for FR Doc. 2015-20012 published in the Federal Register issue of August 14, 2015 (80 FR 48753) (FRL-9931-30) is corrected as follows:

1. On page 48757, second column, under the heading “Part 180—[Amended]”, paragraph 3, line 12, correct “Wheat, forage (EPA Region 11 only)” to read “Wheat, forage (EPA Regions 9-12 only)”.

2. On page 48757, second column, under the heading “Part 180—[Amended]”, paragraph 3, line 14, correct “Wheat, hay (EPA Regions 11 only)” to read “Wheat, hay (EPA Regions 9-12 only)”.

3. On page 48757, second column, under the heading “Part 180—[Amended],” paragraph 3, line 16, correct “Wheat, grain (EPA Regions 11 only” to read “Wheat, grain (EPA Regions 9-12 only)”.

4. On page 48757, second column, under the heading “Part 180—[Amended],” paragraph 3, line 18, correct “Wheat, straw (EPA Region 11 only” to read “Wheat, straw (EPA Regions 9-12 only)”.

III. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that there is good cause for making this technical correction final without prior proposal and opportunity for comment, because this action merely corrects an omission and does not otherwise change the original requirements of the final rule. EPA finds that this constitutes good cause under 5 U.S.C. 553(b)(3)(B).

IV. Do any of the statutory and executive order reviews apply to this action?

No. For a detailed discussion concerning the statutory and executive order review, refer to Unit VI of the August 14, 2015 final rule.

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: November 23, 2015.
Susan Lewis,
Director, Registration Division, Office of Pesticide Programs.

Therefore, 40 CFR part 180 is corrected as follows:

PART 180—[AMENDED]

1. The authority citation for part 180 continues to read as follows:

Authority: 21 U.S.C. 321(q), 346a and 371.

2. In § 180.448(c), remove the commodities “Wheat, forage (EPA Region 11 only)”, “Wheat, grain (EPA Region 11 only)”, “Wheat, hay (EPA Region 11 only)”, and “Wheat, straw (EPA Region 11 only)”; and add in alphabetical order the commodities listed below to read as follows:

§ 180.448 Hexythiazox; tolerances for residues.

* * * * *

(c) * * *

Commodity | Parts per million
Wheat, forage (EPA Regions 9-12 only) | 6.0
Wheat, grain (EPA Regions 9-12 only) | 0.02
Wheat, hay (EPA Regions 9-12 only) | 30
Wheat, straw (EPA Regions 9-12 only) | 8.0

[FR Doc. 2015-30514 Filed 12-1-15; 8:45 am]

BILLING CODE 6560-50-P